DEPARTMENT OF TRANSPORTATION

Federal Aviation Administration

[Policy Statement No. ASW-2001-01]

Policy for Certification Guidelines for Compliance to the Requirements for Electro-Magnetic Compatibility (EMC) Testing for “Equipment Known to Have a High Potential for Interference” When Installed on Rotorcraft With Electronic Controls That Provide Critical Functions

AGENCY: Federal Aviation Administration, DOT.

ACTION: Notice of proposed policy statement; request for comments.

SUMMARY: The Federal Aviation Administration (FAA) announces the availability of a proposed policy for conducting EMC testing on rotorcraft equipped with Electrical/Electronic Controls that provide critical functions, such as Full Authority Digital Engine Controls (FADEC) Systems and Fly-By-Wire Flight Controls Systems. This proposed policy would revise the current policy by eliminating certain types of equipment from the requirement to undergo special installation Electromagnetic Interference testing.

DATES: Comments must be received by October 28, 2001.

ADDRESSES: Send all comments on the proposed policy to the individual identified under FOR FURTHER INFORMATION CONTACT.

FOR FURTHER INFORMATION CONTACT: Jorge Castillo, FAA, Rotorcraft Directorate Standards Staff, ASW-110, 2601 Meacham Blvd., Ft. Worth, TX 76193-0110; email address: <jorge.r.castillo@faa.gov>; telephone: (817) 222-5127; fax: (817) 222-5961.

SUPPLEMENTARY INFORMATION:

Comments Invited

The proposed policy statement is available on the Internet at the following address: http://www.faa.gov/avr/air/asw/rotor.htm. If you do not have access to the Internet, you may request a copy of the proposed policy statement by contacting the individual listed under FOR FURTHER INFORMATION CONTACT. The FAA invites interested parties to comment on the proposed policy. Comments should identify the subject of the proposed policy and be submitted to the individual identified under FOR FURTHER INFORMATION CONTACT. The FAA will consider all comments received by the closing date before issuing the final policy.

Background

On March 31, 1998, the FAA's Rotorcraft Directorate Standards Staff, issued policy that provides guidance for conducting EMC testing on rotorcraft equipped with electrical/electronic controls that provide critical functions. The FAA is now proposing to revise the previous March 31, 1998, policy by eliminating certain types of equipment from the requirement to undergo special installation Electromagnetic Interference testing.

Authority: 49 U.S.C. 106(g), 40113, 44701-44702, 44704.

Issued in Ft. Worth, Texas, on September 24, 2001.
David A. Downey,
Manager, Rotorcraft Directorate, Aircraft Certification Service.

[FR Doc. 01-24615 Filed 10-1-01; 8:45 am]

BILLING CODE 4910-13-M